DEPARTMENT OF COMMERCE

International Trade Administration

[A-557-812]

Notice of Final Determination of Sales at Not Less Than Fair Value: Certain Color Television Receivers From Malaysia

AGENCY: Import Administration, International Trade Administration, Department of Commerce.

SUMMARY: On November 28, 2003, the Department of Commerce published its preliminary determination of sales at not less than fair value of certain color television receivers from Malaysia. The period of investigation is April 1, 2002, through March 31, 2003.

Based on our analysis of the comments received, we have made changes in the margin calculations. Therefore, the final determination differs from the preliminary determination. The final weighted-average dumping margins are listed below in the section entitled “Final Determination Margins.”

EFFECTIVE DATE: April 16, 2004.

FOR FURTHER INFORMATION CONTACT: Mike Strollo or Gregory Kalbaugh at (202) 482-0629 and (202) 482-3693, respectively, AD/CVD Enforcement, Office 2, Import Administration, International Trade Administration, U.S. Department of Commerce, 14th Street and Constitution Avenue, NW., Washington, DC 20230.

Final Determination

We determine that certain color television receivers (CTVs) from Malaysia are not being sold, or are not likely to be sold, in the United States at less than fair value (LTFV), as provided in section 735 of the Tariff Act of 1930, as amended (the Act). The estimated margins of sales at not LTFV are shown in the “Final Determination Margins” section of this notice.

Case History

The preliminary determination in this investigation was issued on November 21, 2003. See Notice of Negative Preliminary Determination of Sales at Less Than Fair Value, Postponement of Final Determination, and Negative Preliminary Determination of Critical Circumstances: Certain Color Televisions From Malaysia, 68 FR 66810 (Nov. 28, 2003) (Preliminary Determination).

Since the preliminary determination, the following events have occurred. In December 2003, we conducted verification of the questionnaire responses of the sole respondent in this case, Funai Electric (Malaysia) Sdn. Bhd (Funai Malaysia).

In February 2004, we received case and rebuttal briefs from the petitioners (Five Rivers Electronic Innovations, LLC, the International Brotherhood of Electrical Workers, and the Industrial Division of the Communications Workers of America) and Funai Malaysia. The Department held a public hearing on March 11, 2003, at the request of the petitioners.

Scope of the Investigation

For purposes of this investigation, the term “certain color television receivers” includes complete and incomplete direct-view or projection-type cathode-ray tube color television receivers, with a video display diagonal exceeding 52 centimeters, whether or not combined with video recording or reproducing apparatus, which are capable of receiving a broadcast television signal and producing a video image. Specifically excluded from this investigation are computer monitors or other video display devices that are not capable of receiving a broadcast television signal.

The color television receivers subject to this investigation are currently classifiable under subheadings 8528.12.2800, 8528.12.3250, 8528.12.3290, 8528.12.4000, 8528.12.5600, 8528.12.3600, 8528.12.4400, 8528.12.4800, and 8528.12.5200 of the Harmonized Tariff Schedule of the United States (“HTSUS”). Although the HTSUS subheading is provided for convenience and customs purposes, the written description of the scope of the merchandise under investigation is dispositive.

Scope Comments

Prior to the preliminary determination in this case, interested parties in this investigation, Algert Co., Inc., and Panasonic AVC Networks Kuala Lumpur Malaysia Sdn. Bhd (collectively, Algert/Panasonic), requested that Panasonic multi-system, dual/auto voltage CTVs be excluded from the scope of this investigation because: (1) These CTVs are not produced domestically; and (2) they do not compete in any meaningful way with CTVs that are produced in the United States. We preliminarily found that this product fell within the scope of this investigation. Because we have received no further scope comments in this proceeding, we are making a final determination that these products fall within the scope of this investigation.

Class or Kind

As part of its scope request, Algert/Panasonic argued that the Panasonic multi-system, dual/auto voltage CTVs fall into a separate class or kind of merchandise from other color televisions. We preliminarily found that the CTVs in question did not constitute a separate class or kind of merchandise. Because we have received no further scope comments in this proceeding, we are making a final determination that these products do not constitute a separate class or kind of merchandise.

Period of Investigation

The period of investigation (POI) is April 1, 2002, through March 31, 2003. This period corresponds to the four most recent fiscal quarters prior to the month of the filing of the petition (i.e., May 2003).

Analysis of Comments Received

All issues raised in the case briefs by parties to this proceeding and to which we have responded are listed in the Appendix to this notice and addressed in the Decision Memorandum, which is adopted by this notice. Parties can find a complete discussion of the issues raised in this investigation and the corresponding recommendations in this public memorandum, which is on file in the Central Records Unit, room B-099 of the main Commerce Building. In addition, a complete version of the Decision Memorandum can be accessed directly on the Web at http://ia.ita.doc.gov/frn/index.html. The paper copy and electronic version of the Decision Memorandum are identical in content.

Changes Since the Preliminary Determination

Based on our analysis of comments received, we have made certain changes to the margin calculations. For a discussion of these changes, see the “Margin Calculations” section of the Decision Memorandum.

Critical Circumstances

The petition contained a timely allegation that there is a reasonable basis to believe or suspect that critical circumstances exist with respect to imports of subject merchandise. Section 735(a)(3) of the Act provides that the Department will determine if: (A)(i) there is a history of dumping and material injury by reason of dumped imports in the United States or elsewhere of the subject merchandise, or (ii) the person by whom, or for whose account, the merchandise was imported knew or should have known that the exporter was selling the subject merchandise at less than its fair value and that there would be material injury by reason of such sales, and (B) there have been massive imports of the subject merchandise over a relatively short period.

In this case, our final determination is negative. Accordingly, a critical circumstances determination is irrelevant because there is no possibility of retroactive suspension of liquidation.

Verification

As provided in section 782(i) of the Act, we verified the information submitted by the respondent for use in our final determination. We used standard verification procedures including examination of relevant accounting records, production records, and original source documents provided by the respondent.

Final Determination Margins

We determine that the following percentage weighted-average margins exist:

Manufacturer/exporter | Margin (percent)
Funai Electric (Malaysia) Sdn. Bhd (Funai Malaysia) | 0.75

Suspension of Liquidation

Because the estimated weighted-average dumping margin for the investigated company is 0.75 percent (de minimis), we are not directing the Customs Service to suspend liquidation of entries of CTVs from Malaysia.

ITC Notification

In accordance with section 735(d) of the Act, we have notified the International Trade Commission (ITC) of our determination.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections section 735(d) and 777(i) of the Act.

Dated: April 12, 2004.
Jeffrey May,
Acting Assistant Secretary for Import Administration.

Appendix—Issues in the Decision Memorandum

1. Unreported Sales and Cost Data

2. Returns of Subject Merchandise

3. Date of Sale/Date of Shipment

4. U.S. Billing Adjustments

5. Unreported Sales Discounts

6. U.S. Rebates

7. U.S. Inland Insurance Expenses

8. U.S. Other Transportation Expenses

9. U.S. Customs Duties

10. U.S. Indirect Warranty Expenses/U.S. International Freight Expense

11. Date of Payment/Letter of Credit Sales

12. Calculation of Imputed Credit Expenses

13. U.S. Indirect Selling Expenses

14. Expenses Associated with Sample Sales

15. Reclassification of Foreign Indirect Selling Expenses as G&A

16. Treatment of Indirect Selling Expenses in Malaysia and Japan

17. Home Market Credit Expenses and Commission Offset

18. Clerical Errors in the Preliminary Determination

19. Affiliated Manufacturer of A Major Input

20. Major Input Transfer Price

21. Raw Materials Cost

22. Parent Company General and Administrative Expense Allocation

23. Negative General and Administrative Departmental Expenses

24. Research and Development Costs

25. Short-Term Income Offset to Financial Expenses

26. CV Profit

[FR Doc. 04-8692 Filed 4-15-04; 8:45 am]

BILLING CODE 3510-DS-P